FEDERAL MINE SAFETY AND HEALTH REVIEW COMMISSION

Sunshine Act Meetings

May 30, 2019.

TIME AND DATE: 10:00 a.m., Wednesday, June 12, 2019.

PLACE: The Richard V. Backley Hearing Room, Room 511N, 1331 Pennsylvania Avenue NW, Washington, DC 20004 (enter from F Street entrance).

STATUS: Open.

MATTERS TO BE CONSIDERED: The Commission will hear oral argument in the matter Secretary of Labor v. Solar Sources Mining, LLC, Docket No. LAKE 2017-99. (Issues include whether the Judge abused his discretion and failed to adequately explain the basis for the civil penalty he imposed.)

Any person attending this oral argument who requires special accessibility features and/or auxiliary aids, such as sign language interpreters, must inform the Commission in advance of those needs. Subject to 29 CFR 2706.150(a)(3) and § 2706.160(d).

CONTACT PERSON FOR MORE INFO: Emogene Johnson (202) 434-9935/(202) 708-9300 for TDD Relay/1-800-877-8339 for toll free.

Phone Number For Listening To Meeting: 1-(866) 867-4769, Passcode: 678-100.

Sarah L. Stewart,
Deputy General Counsel.

[FR Doc. 2019-11633 Filed 5-30-19; 4:15 pm]

BILLING CODE 6735-01-P